DEPARTMENT OF ENERGY

Federal Energy Regulatory Commission

Notice of Staff Attendance at Southwest Power Pool Regional Entity Trustee, Regional State Committee, Members' and Board of Directors Meetings

The Federal Energy Regulatory Commission (Commission) hereby gives notice that members of its staff may attend the meetings of the Southwest Power Pool, Inc. (SPP) Regional Entity Trustee (RE), Regional State Committee (RSC), SPP Members Committee and Board of Directors, as noted below. Their attendance is part of the Commission's ongoing outreach efforts.

All meetings will be held at the Embassy Suites Omaha-Downtown, 555 South 10th Street, Omaha, NE. The hotel's phone number is (402) 346-9000.

SPP RE

July 28, 2014 (8:00 a.m.-12:00 p.m.)

SPP RSC

July 28, 2014 (1:00 p.m.-5:00 p.m.)

SPP Members/Board of Directors

July 29, 2014 (8:00 a.m.-3:00 p.m.)

The discussions may address matters at issue in the following proceedings:

Docket No. EL05-19, Southwestern Public Service Company

Docket No. ER05-168, Southwestern Public Service Company

Docket No. ER06-274, Southwestern Public Service Company

Docket No. ER06-451, Southwest Power Pool, Inc.

Docket No. ER09-35, Tallgrass Transmission, LLC

Docket No. ER09-36, Prairie Wind Transmission, LLC

Docket No. ER09-548, ITC Great Plains, LLC

Docket No. EL11-34, Midcontinent Independent System Operator, Inc.

Docket No. ER11-1844, Midcontinent Independent System Operator, Inc.

Docket No. ER11-4105, Southwest Power Pool, Inc.

Docket No. EL12-28, Xcel Energy Services Inc., et al.

Docket No. EL12-59, Golden Spread Electric Cooperative, Inc.

Docket No. EL12-60, Southwest Power Pool, Inc., et al.

Docket No. ER12-480, Midcontinent Independent System Operator, Inc.

Docket No. ER12-959, Southwest Power Pool, Inc.

Docket No. ER12-1071, Entergy Arkansas, Inc.

Docket No. ER12-1179, Southwest Power Pool, Inc.

Docket No. ER12-1586, Southwest Power Pool, Inc.

Docket No. ER12-2366, Southwest Power Pool, Inc.

Docket No. ER13-366, Southwest Power Pool, Inc.

Docket No. ER13-367, Southwest Power Pool, Inc.

Docket No. ER13-1173, Southwest Power Pool, Inc.

Docket No. ER13-1748, Southwest Power Pool, Inc.

Docket No. ER13-1864, Southwest Power Pool, Inc.

Docket No. ER13-1872, Southwest Power Pool, Inc.

Docket No. ER13-2031, Southwest Power Pool, Inc.

Docket No. EL14-21, Southwest Power Pool, Inc.

Docket No. EL14-30, Midcontinent Independent System Operator, Inc.

Docket No. EL14-49, Southwest Power Pool, Inc.

Docket No. EL14-57, City of Hastings, NE and City of Grand Island, NE v. Southwest Power Pool, Inc.

Docket No. ER14-781, Southwest Power Pool, Inc.

Docket No. ER14-866, Southwest Power Pool, Inc.

Docket No. ER14-1174, Southwest Power Pool, Inc.

Docket No. ER14-1406, Midcontinent Independent System Operator, Inc.

Docket No. ER14-1407, Southwest Power Pool, Inc.

Docket No. ER14-1653, Southwest Power Pool, Inc.

Docket No. ER14-1713, Midcontinent Independent System Operator, Inc.

Docket No. ER14-2009, Southwest Power Pool, Inc.

Docket No. ER14-2022, Midcontinent Independent System Operator, Inc.

Docket No. ER14-2059, Midcontinent Independent System Operator, Inc.

Docket No. ER14-2062, Southwest Power Pool, Inc.

Docket No. ER14-2065, Southwest Power Pool, Inc.

Docket No. ER14-2081, Southwest Power Pool, Inc

Docket No. ER14-2107, Southwest Power Pool, Inc.

Docket No. ER14-2162, Southwest Power Pool, Inc.

Docket No. ER14-2184, Southwest Power Pool, Inc.

Docket No. ER14-2217, Southwest Power Pool, Inc.

Docket No. ER14-2219, Southwest Power Pool, Inc.

Docket No. ER14-2303, Southwest Power Pool, Inc.

Docket No. ER14-2363, Southwestern Public Service Company

These meetings are open to the public.

For more information, contact Patrick Clarey, Office of Energy Market Regulation, Federal Energy Regulatory Commission at (317) 249-5937 or patrick.clarey@ferc.gov.

Dated: July 11, 2014.
Kimberly D. Bose,
Secretary.

[FR Doc. 2014-17047 Filed 7-18-14; 8:45 am]

BILLING CODE 6717-01-P